DEPARTMENT OF COMMERCE

International Trade Administration

(A-507-502)

Continuation of Antidumping Duty Order on Certain In-Shell Pistachios from Iran

AGENCY: Import Administration, International Trade Administration, Department of Commerce.

SUMMARY: As a result of the determinations by the Department of Commerce (“the Department”) and the International Trade Commission (“ITC”) that revocation of the antidumping duty order on certain in-shell pistachios (“in-shell pistachios”) from Iran would likely lead to continuation or recurrence of dumping and material injury to an industry in the United States, the Department is publishing notice of continuation of this antidumping duty order.

EFFECTIVE DATE: January 3, 2006.

CONTACT INFORMATION: Dana Mermelstein, AD/CVD Operations, Office 6, or John Drury, AD/CVD Operations, Office 7, Import Administration, International Trade Administration, U.S. Department of Commerce, 14th Street and Constitution Avenue, NW., Washington, DC 20230, telephone: (202) 482-1391 or (202) 482-0195, respectively.

SUPPLEMENTARY INFORMATION:

Background

On March 1, 2005, the Department initiated and the ITC instituted a sunset review of the antidumping duty order on in-shell pistachios from Iran, pursuant to section 751(c) of the Tariff Act of 1930, as amended (“the Act”).¹

¹ See Initiation of Five-Year (“Sunset”) Reviews, 70 FR 9919 (March 1, 2005) and Raw In-Shell Pistachios from Iran, 70 FR 9976 (March 1, 2005).

As a result of its review, the Department found that revocation of the antidumping duty order would likely lead to continuation or recurrence of dumping, and notified the ITC of the magnitude of the margins likely to prevail were the order to be revoked.² On December 22, 2005, the ITC determined, pursuant to section 751(c) of the Act, that revocation of the antidumping duty order on in-shell pistachios from Iran would likely lead to continuation or recurrence of material injury to an industry in the United States within a reasonably foreseeable time.³

² See Certain In-Shell Pistachios from Iran; Final Results of the Expedited Sunset Review of the Antidumping Duty Order, 70 FR 57855 (October 4, 2005).

³ See Raw In-Shell Pistachios from Iran, 70 FR 76076 (December 22, 2005) and USITC Publication 3824, Investigation No. 731-TA-287 (Review) (December 2005).

Scope of the Order

The product covered by the antidumping duty order is raw, in-shell pistachio nuts from which the hulls have been removed, leaving the inner hard shells, and edible meats from Iran. This merchandise is currently provided for in subheading 0802.50.20.00 of the Harmonized Tariff Schedule of the United States (HTSUS). Although the HTSUS subheading is provided for convenience and customs purposes, the Department's written description of the merchandise under order is dispositive.

Determination

As a result of the determinations by the Department and the ITC that revocation of this antidumping duty order would likely lead to continuation or recurrence of dumping and material injury to an industry in the United States, pursuant to section 751(d)(2) of the Act, the Department hereby orders the continuation of the antidumping duty order on in-shell pistachios from Iran. U.S. Customs and Border Protection will continue to collect antidumping duty deposits at the rates in effect at the time of entry for all imports of subject merchandise.

The effective date of continuation of this order will be the date of publication in the Federal Register of this Notice of Continuation. Pursuant to section 751(c)(2) and 751(c)(6)(A) of the Act, the Department intends to initiate the next five-year review of this order not later than March 2010.

This notice is in accordance with sections 751(c) and 777(i)(1) of the Act.

Dated: December 23, 2005.
Stephen J. Claeys,
Acting Assistant Secretary for Import Administration.

[FR Doc. E5-8214 Filed 12-30-05; 8:45 am]

BILLING CODE 3510-DS-S